ENVIRONMENTAL PROTECTION AGENCY

[EPA-HQ-OW-2016-0686; FRL-9962-62-OW]

EPA's Proposed Modeling Approaches for a Health-Based Benchmark for Lead in Drinking Water—Final List of Peer Reviewers, Final Charge Questions and Notice of the Public Peer Review Meeting

AGENCY: Environmental Protection Agency (EPA).

ACTION: Notice of final peer reviewer selection and public peer review meeting.

SUMMARY: The U.S. Environmental Protection Agency (EPA) is announcing the final peer reviewers assembled by Eastern Research Group, Inc., (ERG) for the external peer review of EPA's “Proposed Modeling Approaches for a Health-Based Benchmark for Lead in Drinking Water” (lead modeling report).

DATES: The public peer review meeting will be held on:

1. June 27, 2017, 8:30 a.m. to 5 p.m., eastern standard time; and

2. June 28, 2017, 8:30 a.m. to 2 p.m., eastern standard time.

The registration deadline to attend the meeting in-person or via teleconference, and to request to make a brief oral statement at the meeting, is June 22, 2017. See the SUPPLEMENTARY INFORMATION section for instructions of how to register.

ADDRESSES: The public peer review meeting will be held at the St. Gregory Hotel, located at 2033 M Street NW., Washington, DC. The phone number for the teleconference line will be provided to registered observers prior to the meeting.

FOR FURTHER INFORMATION CONTACT: Questions regarding logistics or registration for the external peer review meeting should be directed to ERG, 110 Hartwell Avenue, Lexington, MA 02421; by email peerreview@erg.com (subject line: Lead in Drinking Water Peer Review); or by phone: (781) 674-7362 (ask for Laurie Waite).

SUPPLEMENTARY INFORMATION:

I. Registration Instructions

To attend the peer review meeting as an observer, either in-person or via teleconference, register no later than June 22, 2017. You may register (1) online at https://projects.erg.com/conferences/peerreview/register-lead-drinkwater.htm; (2) by sending an email to peerreview@erg.com (subject line: Lead in Drinking Water Peer Review Meeting) and include your name, title and affiliation, full address, email and phone number, or (3) by phone at (781) 674-7362 (ask for Laurie Waite). Please indicate which day(s) you plan to attend the meeting and whether you plan to attend the meeting via teleconference or in-person. Space is limited and registrations will be accepted on a first-come, first-served basis. There will be a limited amount of time for oral statements from the public at the beginning of the peer review meeting on the first day. If you wish to make an oral statement during the meeting, you must notify ERG of your request to speak by registering no later than June 22, 2017. ERG will accept requests to make oral statements on a first-come, first-served basis, and may limit the amount of time for each speaker as well as the number of speakers due to time constraints. ERG will notify speakers of specific time limits for their oral statements prior to the meeting.

II. Information on the Draft Lead Modeling Report and Peer Review Charge Questions

EPA announced the release of the draft lead modeling report and draft peer review charge questions for purposes of public comment on January 19, 2017, in the Federal Register (82 FR 6546). The original 45-day public comment period ended on March 6, 2017, but the public comment period was extended 30 days to April 5, 2017, due to stakeholders' request. EPA will consider peer reviewer and public comments when finalizing the draft lead modeling report. EPA also obtained public comment on the draft peer review charge questions. The final charge questions, the draft lead modeling report and public comments submitted during the public comment period may be viewed at https://www.regulations.gov. (Docket ID No. EPA-HQ-OW-2016-0686).

III. Final List of Peer Reviewers

Consistent with guidelines for the peer review of highly influential scientific assessments, EPA tasked ERG, a contractor, to assemble a panel of experts to evaluate the draft lead modeling report. ERG received 14 nominations in response to EPA's January 19, 2017, Federal Register notice (82 FR 6546) requesting nominations and identified over 40 additional potential candidates through its own search process. From this set, a total of 26 experts responded to ERG to indicate their interest in and qualifications for this review. After evaluating these 26 individuals against the selection criteria described in the Federal Register notice, ERG identified an interim list of 13 qualified candidates. EPA solicited public comments on the interim list on March 20, 2017, in the Federal Register (82 FR 14361). ERG considered the public comments received and consulted with EPA's Science Integrity Official. Considering all these inputs, ERG selected 8 final peer reviewers who, collectively, best meet EPA's selection criteria, provide expertise spanning the multiple subject matter areas covered by the draft lead modeling report, and to the extent feasible, best provide a balance of perspectives. The final 8 selected peer reviewers are provided as follows.

Name of Peer Reviewer, Degree, Place of Employment

1. Panos Georgopoulos, Ph.D., Rutgers University

2. Philip Goodrum, Ph.D., Integral Consulting, Inc.

3. Ian von Lindern, Ph.D., TerraGraphics International

4. Anne Loccisano, Ph.D., Exponent, Inc.

5. Marc A. Nascarella, Ph.D., Massachusetts Department of Public Health

6. Michèle Prévost, Ph.D., Polytechnique Montreal

7. P. Barry Ryan, Ph.D., Emory University

8. Kathleen Vork, Ph.D., California Office of Environment Health Hazard Assessment

EPA requests that no individual or organization in any way contact the peer reviewers regarding the subject of the peer review meeting, send them written materials regarding the subject of the meeting, or make any offers or requests to any of them that appear to be linked to their participation in the peer review. ERG will direct the reviewers to report any such contacts directly to ERG, and take appropriate action in consultation with EPA to ensure the independence and impartiality of the peer review.

IV. Information About the Peer Review Meeting

EPA has charged the peer reviewers with evaluating and preparing written comments on the draft lead modeling report. Specifically, reviewers will work individually to provide general comments, their overall impressions of the draft lead modeling report, and responses to the charge questions. Reviewers will also consider the appropriateness of the quality, accuracy, and relevance of the data in the lead modeling report. Prior to the meeting, ERG will provide the peer

reviewers with a summary of the public comments (along with the full text of all comments) on the draft lead modeling report and peer review charge questions that were submitted to EPA's public docket (Docket ID No. EPA-HQ-OW-2016-0686) during the public comment period.

Dated: May 8, 2017.
Michael H. Shapiro,
Acting Assistant Administrator, Office of Water.

[FR Doc. 2017-10933 Filed 5-25-17; 8:45 am]

BILLING CODE 6560-50-P